DEPARTMENT OF ENERGY

Federal Energy Regulatory Commission

[Docket No. RP05-354-000]

Southwest Gas Corporation; Notice of Petition of Southwest Gas Corporation for a Declaratory Order and Expeditious Treatment of Petition

May 27, 2005.

Take notice that on May 24, 2005, Southwest Gas Corporation (Southwest), filed in Docket No. RP05-354-000, pursuant to Rule 207(a)(2) of the Rules of Practice and Procedure of the Federal Energy Regulatory Commission (Commission), a petition for a declaratory order requesting that the Commission clarify General Terms and Conditions (GT&C) section 20.8 of El Paso Natural Gas Company's Tariff.

Southwest states that GT&C section 20.8 requires that shipper endeavor to take gas ratably through the gas day and to keep variations in hourly takes to the minimum feasible. Southwest avers that El Paso and its shippers disagree on the meaning of this tariff section and that the uncertainty is creating planning uncertainty and possibly delaying El Paso's construction of necessary infrastructure improvements. Southwest asks the Commission to clarify that GT&C section 20.8 does not constitute a fixed obligation of shipper to take 1/24 ratably throughout the gas day, nor does it limit daily firm service rights by imposing an inflexible uniform hourly service limitation. Southwest further requests expeditious action, including a shortened notice and answer period, so that the Commission's ruling can be obtained by June 30, 2005, or as soon thereafter as possible.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

A person does not have to intervene in order to have comments considered. A person must file with the Secretary of the Commission, as soon as possible, an original and two copies of comments in support of or in opposition to this petition. The Commission will consider these comments in determining the appropriate action to be taken; but the filing of a comment alone will not serve to make the filer a party to the proceeding. The Commission's Rules require that persons filing comments in opposition to the petition provide copies of their protests only to the party or parties directly involved in the protest.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time June 3, 2005.

Linda Mitry,
Deputy Secretary.

[FR Doc. E5-2798 Filed 6-1-05; 8:45 am]

BILLING CODE 6717-01-P